DEPARTMENT OF COMMERCE

National Institute of Standards and Technology

Visiting Committee on Advanced Technology

AGENCY: National Institute of Standards and Technology, Department of Commerce.

ACTION: Notice of public meeting.

SUMMARY: The Visiting Committee on Advanced Technology (VCAT or Committee), National Institute of Standards and Technology (NIST), will meet in open session on Tuesday, October 16, 2012, from 9 a.m. to 5 p.m. Mountain Time and Wednesday, October 17, 2012, from 8:30 a.m. to 11:30 a.m. Mountain Time. The VCAT is composed of fifteen members appointed by the Under Secretary of Commerce for Standards and Technology who are eminent in such fields as business, research, new product development, engineering, labor, education, management consulting, environment, and international relations.

DATES: The VCAT will meet on Tuesday, October 16, 2012, from 9 a.m. to 5 p.m. Mountain Time and Wednesday, October 17, 2012, from 8:30 a.m. to 11:30 a.m. Mountain Time.

ADDRESSES: The meeting will be held in Building 81, Room 1A116, at the National Institute of Standards and Technology, Boulder, Colorado 80305-3328. Please note admittance instructions under the SUPPLEMENTARY INFORMATION section of this notice.

FOR FURTHER INFORMATION CONTACT: Stephanie Shaw, VCAT, NIST, 100 Bureau Drive, Gaithersburg, Maryland 20899-1060, telephone number 301-975-2667. Ms. Shaw's email address is stephanie.shaw@nist.gov.

SUPPLEMENTARY INFORMATION:

Authority: 15 U.S.C. 278 and the Federal Advisory Committee Act, as amended, 5 U.S.C. App.

The purpose of this meeting is to review and make recommendations regarding general policy for NIST, its organization, its budget, and its programs within the framework of applicable national policies as set forth by the President and the Congress. The agenda will include an update on NIST followed by presentations and discussions on NIST's R&D planning and its activities and programs related to the Centers of Excellence, manufacturing, and next generation of measurement services. The VCAT Subcommittee on Safety will review and discuss its recent activities. The meeting also will include laboratory tours and conclude with a wrap-up discussion of recommendations and the path forward for the 2012 VCAT Annual Report. The agenda may change to accommodate Committee business. The final agenda will be posted on the NIST web site at http://www.nist.gov/director/vcat/agenda.cfm.

Individuals and representatives of organizations who would like to offer comments and suggestions related to the Committee's affairs are invited to request a place on the agenda. On October 17, approximately one-half hour will be reserved in the morning for public comments and speaking times will be assigned on a first-come, first-serve basis. The amount of time per speaker will be determined by the number of requests received, but is likely to be about 3 minutes each. The exact time for public comments will be included in the final agenda that will be posted on the NIST Web site at http://www.nist.gov/director/vcat/agenda.cfm. Questions from the public will not be considered during this period. Speakers who wish to expand upon their oral statements, those who had wished to speak, but could not be accommodated on the agenda, and those who were unable to attend in person are invited to submit written statements to the VCAT, NIST, 100 Bureau Drive, MS 1060, Gaithersburg, Maryland 20899, via fax at 301-216-0529 or electronically by email to gail.ehrlich@nist.gov.

All visitors to the NIST site are required to pre-register to be admitted. Please submit your name, time of arrival, email address and phone number to Stephanie Shaw by 5:00 p.m. Eastern Time, Tuesday, October 9, 2012. Non-U.S. citizens must also submit their country of citizenship, title, employer/sponsor, and address. Ms. Shaw's email address is stephanie.shaw@nist.gov and her phone number is 301-975-2667.

Dated: September 25, 2012.
Willie E. May,
Associate Director for Laboratory Programs.

[FR Doc. 2012-23895 Filed 9-27-12; 8:45 am]

BILLING CODE 3510-13-P